DEPARTMENT OF ENERGY

Federal Energy Regulatory Commission

Combined Notice of Filings

Take notice that the Commission has received the following Natural Gas Pipeline Rate and Refund Report filings:

Docket Numbers: RP21-23-001.

Applicants: Gulf South Pipeline Company, LLC.

Description: Tariff Amendment: Amendment to RP21-23-000 to be effective 10/1/2020.

Filed Date: 10/22/20.

Accession Number: 20201022-5120.

Comments Due: 5 p.m. ET 11/3/20.

Docket Numbers: RP21-80-000.

Applicants: Mississippi Canyon Gas Pipeline, L.L.C.

Description: § 4(d) Rate Filing: Mississippi Canyon LINK URL Conversion Filing to be effective 11/23/2020.

Filed Date: 10/22/20.

Accession Number: 20201022-5002.

Comments Due: 5 p.m. ET 11/3/20.

Docket Numbers: RP21-81-000.

Applicants: Nautilus Pipeline Company, L.L.C.

Description: § 4(d) Rate Filing: Nautilus LINK URL Conversion Filing to be effective 11/23/2020.

Filed Date: 10/22/20.

Accession Number: 20201022-5011.

Comments Due: 5 p.m. ET 11/3/20.

Docket Numbers: RP21-82-000.

Applicants: NEXUS Gas Transmission, LLC.

Description: § 4(d) Rate Filing: NEXUS LINK URL Conversion Filing to be effective 11/23/2020.

Filed Date: 10/22/20.

Accession Number: 20201022-5013.

Comments Due: 5 p.m. ET 11/3/20.

Docket Numbers: RP21-83-000.

Applicants: Texas Eastern Transmission, LP.

Description: § 4(d) Rate Filing: TETLP LINK URL Conversion Filing to be effective 11/23/2020.

Filed Date: 10/22/20.

Accession Number: 20201022-5015.

Comments Due: 5 p.m. ET 11/3/20.

Docket Numbers: RP21-84-000.

Applicants: Transcontinental Gas Pipe Line Company, LLC.

Description: Compliance filing 2020 Transco Penalty Revenue Sharing Report.

Filed Date: 10/22/20.

Accession Number: 20201022-5028.

Comments Due: 5 p.m. ET 11/3/20.

Docket Numbers: RP21-85-000.

Applicants: Iroquois Gas Transmission System, L.P.

Description: § 4(d) Rate Filing: 102220 Negotiated Rates—Vitol Inc. R-7495-07 to be effective 11/1/2020.

Filed Date: 10/22/20.

Accession Number: 20201022-5042.

Comments Due: 5 p.m. ET 11/3/20.

Docket Numbers: RP21-86-000.

Applicants: Iroquois Gas Transmission System, L.P.

Description: § 4(d) Rate Filing: 102220 Negotiated Rates—Vitol Inc. R-7495-08 to be effective 11/1/2020.

Filed Date: 10/22/20.

Accession Number: 20201022-5039.

Comments Due: 5 p.m. ET 11/3/20.

Docket Numbers: RP21-87-000.

Applicants: Iroquois Gas Transmission System, L.P.

Description: § 4(d) Rate Filing: 102220 Negotiated Rates—Vitol Inc. R-7495-09 to be effective 11/1/2020.

Filed Date: 10/22/20.

Accession Number: 20201022-5043.

Comments Due: 5 p.m. ET 11/3/20.

Docket Numbers: RP21-88-000.

Applicants: Iroquois Gas Transmission System, L.P.

Description: § 4(d) Rate Filing: 102220 Negotiated Rates—Vitol Inc. R-7495-10 to be effective 11/1/2020.

Filed Date: 10/22/20.

Accession Number: 20201022-5044.

Comments Due: 5 p.m. ET 11/3/20.

Docket Numbers: RP21-89-000.

Applicants: Natural Gas Pipeline Company of America.

Description: § 4(d) Rate Filing: Amendment to a Negotiated Rate Agreement-Macquarie Energy to be effective 10/22/2020.

Filed Date: 10/22/20.

Accession Number: 20201022-5063.

Comments Due: 5 p.m. ET 11/3/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 23, 2020.
Nathaniel J. Davis, Sr.,
Deputy Secretary.

[FR Doc. 2020-24017 Filed 10-29-20; 8:45 am]

BILLING CODE 6717-01-P